ENVIRONMENTAL PROTECTION AGENCY

40 CFR Part 300

[EPA-HQ-SFUND-1986-0005; FRL-9999-97-Region 9]

National Oil and Hazardous Substances Pollution Contingency Plan; National Priorities List: Deletion of the Intel Corp. (Santa Clara III) Superfund Site

AGENCY: Environmental Protection Agency (EPA).

ACTION: Final rule.

SUMMARY: The Environmental Protection Agency (EPA) Region 9 announces the deletion of the Intel Corp. (Santa Clara III) Superfund Site (Site) located in Santa Clara, California, from the National Priorities List (NPL). The NPL, promulgated pursuant to section 105 of the Comprehensive Environmental Response, Compensation, and Liability Act (CERCLA) of 1980, as amended, is an appendix of the National Oil and Hazardous Substances Pollution Contingency Plan (NCP). EPA and the State of California, through the San Francisco Regional Water Quality Control Board, have determined that all appropriate response actions under CERCLA have been completed. However, the deletion of the Site does not preclude future actions under Superfund.

DATES: This action is effective September 24, 2019.

ADDRESSES: EPA has established a docket for this action under Docket Identification No. EPA-HQ-SFUND-1986-0005. All documents in the docket are listed on the website http://www.regulations.gov. Docket materials are also available at the site information repository: Superfund Records Center, 75 Hawthorne Street, Room 3110, San Francisco, California, Hours: 8:00 a.m.-4:00 p.m.; (415) 947-8717.

FOR FURTHER INFORMATION CONTACT: Holly Hadlock, Superfund Project Manager, U.S. EPA, Region 9, (SFD-7-3), 75 Hawthorne Street, San Francisco, CA 94105, (415) 972-3171, email: hadlock.holly@epa.gov.

SUPPLEMENTARY INFORMATION: The site to be deleted from the NPL is the Intel Corp. (Santa Clara III) Superfund Site, Santa Clara, California. A Notice of Intent to Delete was published in the Federal Register (84 FR 37195-37198) on July 31, 2019. The closing date for comments was August 30, 2019. EPA received one public comment opposing its decision to delete the Site from the NPL. The commenter opposed the deletion because of the concern that contamination could return. EPA believes the deletion is appropriate because the applicable NPL deletion criterion established by the NCP has been met: The responsible party, Intel Corporation, has implemented all appropriate response actions for groundwater set forth in the 2010 amendment to the 1990 Record of Decision, which selected the remedy for contaminated groundwater at the Site. Confirmation sampling indicates that all contaminants of concern are below state and federal drinking water standards. Since there is no ongoing source of contamination at the Site, EPA is confident that the groundwater at the Site will continue to meet State and Federal drinking water standards in the future. EPA prepared a responsiveness summary and placed it in both the docket at www.regulations.gov (EPA-HQ-SFUND-1986-0005) and in the repository listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 10, 2019.
Kerry Drake,
Acting Regional Administrator, Region 9.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing the entry for “CA”, “Intel Corp. (Santa Clara III)”, “Santa Clara”.

[FR Doc. 2019-20345 Filed 9-23-19; 8:45 am]

BILLING CODE 6560-50-P